DEPARTMENT OF AGRICULTURE

Economic Research Service

Notice of Intent to Seek Approval to Collect Information; Correction

AGENCY: Economic Research Service, USDA.

ACTION: Notice and request for comments; correction.

SUMMARY: In accordance with the Paperwork Reduction Act of 1995 (Pub. L. 104-13) and Office of Management and Budget (OMB) regulations at 5 CFR part 1320 (60 FR 44978, August 29, 1995), this notice announces the Economic Research Service's (ERS) intention to request approval for a new information collection from Child and Adult Care Food Program (CACFP) State agencies. The study will collect existing data from the State agencies related to administrative cost reimbursement of sponsoring organizations that administer the family day care homes (FDCH) portion of the Program.

FOR FURTHER INFORMATION CONTACT: Linda Ghelfi, 202-694-5437.

Correction

In the Federal Register issue of March 26, 2001, in FR Doc. 01-7396, on page 16441, in the second column, correct the “Dates” caption to read:

DATES: Comments on this notice must be received by May 30, 2001 to be assured of consideration.

Dated: April 16, 2001.
Susan Offutt.
Administrator, Economic Research Service.

[FR Doc. 01-10526 Filed 4-26-01; 8:45 am]

BILLING CODE 3410-18-M